NUCLEAR REGULATORY COMMISSION

[Docket Nos. 50-220 and 50-410]

Nine Mile Point Nuclear Station, LLC; Nine Mile Point Nuclear Station, Units 1 and 2; Notice of Issuance of Renewed Facility Operating License Nos. DPR-63 and NPF-69 for an Additional 20-Year Period; Record of Decision

Notice is hereby given that the U.S. Nuclear Regulatory Commission (the Commission) has issued Renewed Facility Operating License Nos. DPR-63 and NPF-69 to the Nine Mile Point Nuclear Station, LLC (the licensee), the operator of the Nine Mile Point Nuclear Station (NMP), Units 1 and 2. Renewed Facility Operating License No. DPR-63 authorizes operation of NMP, Unit 1, by the licensee at reactor core power levels not in excess of 1850 megawatts thermal, in accordance with the provisions of the NMP renewed license and its Technical Specifications. Renewed Facility Operating License No. NPF-69 authorizes operation of NMP, Unit 2, by the licensee at reactor core power levels not in excess of 3467 megawatts thermal, in accordance with the provisions of the NMP renewed license and its Technical Specifications.

This notice also serves as the record of decision for the renewal of Facility Operating License Nos. DPR-63 and NPF-69 for NMP, Units 1 and 2. As discussed in the Final Supplemental Environmental Impact Statement (FSEIS) for NMP, dated May 2006, the Commission considered a range of reasonable alternatives that included generation from coal, natural gas, oil, wind, solar, hydropower, geothermal, wood waste, municipal solid waste, other biomass-derived fuels, delayed retirement, utility-sponsored conservation, a combination of alternatives, and a no-action alternative. This range of alternatives was discussed in the Generic Environmental Impact Statement for License Renewal, Supplement 24 regarding Nine Mile Point Nuclear Station, Units 1 and 2.

After weighing the environmental, economic, technical and other benefits of the facility against environmental costs and considering available alternatives, the Commission found that the adverse environmental impacts of license renewal are not so great that preserving the option of license renewal would be unreasonable. The Commission also has taken all practicable measures within its jurisdiction to avoid or minimize environmental harm in its decision to renew Operating License Nos. DPR-63 and NPF-69. No license conditions are imposed in connection with mitigation measures.

NMP, Units 1 and 2, are located on approximately 900 acres along the shore of Lake Ontario, Oswego County, New York. The site is approximately 5 miles north-northeast of the nearest boundary of the City of Oswego. The licensee's application for the renewed licenses complied with the standards and requirements of the Atomic Energy Act of 1954, as amended (the Act), and the Commission's regulations. As required by the Act and the Commission's regulations in 10 CFR Chapter I, the Commission has made appropriate findings, which are set forth in each license.

Prior public notice of the action involving the proposed issuance of the renewed licenses and of an opportunity for a hearing regarding the proposed issuance of the renewed licenses was published in the Federal Register on July 21, 2004 (69 FR 43633).

For further details with respect to this action, see (1) the Nine Mile Point Nuclear Station, LLC license renewal application for Nine Mile Point Nuclear Station, Units 1 and 2 dated May 26, 2004, as amended July 15, 2005; (2) the Commission's safety evaluation report (NUREG-1900), published in September 2006; and (3) the Commission's final environmental impact statement (NUREG-1437, Supplement 24), published in May 2006. These documents are available at the NRC Public Document Room, One White Flint North, 11555 Rockville Pike, Rockville, Maryland 20852, and can be viewed from the NRC Public Electronic Reading Room at (http://www.nrc.gov/reading-rm/adams.html).

Copies of Renewed Facility Operating License Nos. DPR-63 and NPF-69 may be obtained by writing to the U.S. Nuclear Regulatory Commission, Washington, DC, 20555-0001, Attention: Director, Division of License Renewal. Copies of the NMP, Units 1 and 2, Safety Evaluation Report (NUREG-1900) and the Final Environmental Impact Statement (NUREG-1437, Supplement 24) may be purchased from the National Technical Information Service, U.S. Department of Commerce, Springfield, VA 22161-0002 (http://www.ntis.gov), 703-605-6000, or the Superintendent of Documents, U.S. Government Printing Office, P.O. Box 371954, Pittsburgh, PA, 15250-7954. (http://www.gpoaccess.gov), 202-512-1800. All orders should clearly identify the NRC publication number and the requester's Government Printing Office deposit account number or a VISA or MasterCard number and expiration date.

Dated at Rockville, Maryland, this 31st day of October, 2006.
For the Nuclear Regulatory Commission.
Frank P. Gillespie,
Director, Division of License Renewal, Office of Nuclear Reactor Regulation.

[FR Doc. E6-18627 Filed 11-3-06; 8:45 am]

BILLING CODE 7590-01-P